COMMITTEE FOR PURCHASE FROM PEOPLE WHO ARE BLIND OR SEVERELY DISABLED

Procurement List; Proposed Additions and Deletion

AGENCY: Committee for Purchase From People Who Are Blind or Severely Disabled.

ACTION: Proposed Additions to and Deletion from the Procurement List.

SUMMARY: The Committee is proposing to add products and a service to the Procurement List that will be furnished by nonprofit agencies employing persons who are blind or have other severe disabilities, and delete a service previously provided by such agency.

COMMENTS MUST BE RECEIVED ON OR BEFORE: 5/12/2014.

ADDRESSES: Committee for Purchase From People Who Are Blind or Severely Disabled, 1401 S. Clark Street, Suite 10800, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 USC 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

Belt, Rigger's, FREE

NSN: 8415-01-576-9712—Size Small

NSN: 8415-01-576-9715—Size Medium

NSN: 8415-01-576-9729—Size Large

NSN: 8415-01-576-9744—Size X-Large

NSN: 8415-01-576-9884—Size XX-Large

NSN: 8415-01-576-9708—Size X-Small

NPA: Travis Association for the Blind, Austin, TX

Contracting Activity: DEPT OF THE ARMY, W6QK ACC-APG NATICK, NATICK, MA

COVERAGE: C-List for 100% of the requirement of the Department of the Army, as aggregated by the Army Contracting Command—Aberdeen Proving Ground, Natick Contracting Division, Natick MA.

NSN: MR 10654—Bottle, Single Wall

NPA: Winston-Salem Industries for the Blind, Inc., Winston-Salem, NC

Contracting Activity: DEFENSE COMMISSARY AGENCY, FORT LEE, VA

COVERAGE: C-List for the requirements of military commissaries and exchanges as aggregated by the Defense Commissary Agency.

NSN: 7510-00-272-9662—Staples, Standard, Full Strip

NPA: Winston-Salem Industries for the Blind, Inc., Winston-Salem, NC

Contracting Activity: GENERAL SERVICES ADMINISTRATION, NEW YORK, NY

COVERAGE: A-List for the Total Government Requirement as aggregated by the General Services Administration.

Jacket, Tanker, USMC, Pewter Gray

NSN: 8415-00-NIB-1053—Size 38R

NSN: 8415-00-NIB-1054—Size 38L

NSN: 8415-00-NIB-1055—Size 38XL

NSN: 8415-00-NIB-1056—Size 40S

NSN: 8415-00-NIB-1057—Size 40R

NSN: 8415-00-NIB-1058—Size 40L

NSN: 8415-00-NIB-1059—Size 40XL

NSN: 8415-00-NIB-1092—Size 42S

NSN: 8415-00-NIB-1093—Size 42R

NSN: 8415-00-NIB-1094—Size 42L

NSN: 8415-00-NIB-1095—Size 42XL

NSN: 8415-00-NIB-1096—Size 44S

NSN: 8415-00-NIB-1097—Size 44R

NSN: 8415-00-NIB-1098—Size 44L

NSN: 8415-00-NIB-1099—Size 44XL

NSN: 8415-00-NIB-1100—Size 46S

NSN: 8415-00-NIB-1101—Size 46R

NSN: 8415-00-NIB-1102—Size 46L

NSN: 8415-00-NIB-1103—Size 46XL

NSN: 8415-00-NIB-1104—Size 48R

NSN: 8415-00-NIB-1105—Size 48L

NSN: 8415-00-NIB-1106—Size 48XL

NSN: 8415-00-NIB-1107—Size 50R

NSN: 8415-00-NIB-1108—Size 50L

NSN: 8415-00-NIB-1109—Size 50XL

NSN: 8415-00-NIB-1110—Size 52R

NSN: 8415-00-NIB-1111—Size 52L

NSN: 8415-00-NIB-1112—Size 54R

NSN: 8415-00-NIB-1113—Size 54L

NPA: Lions Services, Inc., Charlotte, NC

Contracting Activity: DEPT OF THE NAVY, COMMANDER, MARINE CORPS BASE, QUANTICO, VA

COVERAGE: C-List for 100% of the U.S. Marine Corps Junior ROTC Program, as aggregated by the Marine Corps Systems Command (MARCORSYSCOM), Quantico, VA.

Undershirt, FREE, Army, Unisex

NSN: 8415-01-588-0506—Desert Sand, Size XS

NSN: 8415-01-588-0740—Desert Sand, Size S

NSN: 8415-01-588-0746—Desert Sand, Size M

NSN: 8415-01-588-0772—Desert Sand, Size L

NSN: 8415-01-588-0774—Desert Sand, Size XL

NSN: 8415-01-588-0794—Desert Sand, Size XXL

NSN: 8415-01-576-9915—Foliage Green, Size XS

NSN: 8415-01-576-9930—Foliage Green, Size S

NSN: 8415-01-577-0407—Foliage Green, Size M

NSN: 8415-01-577-0408—Foliage Green, Size L

NSN: 8415-01-577-0409—Foliage Green, Size XL

NSN: 8415-01-577-0410—Foliage Green, Size XXL

NPA: Bestwork Industries for the Blind, Inc., Runnemede, NJ

Contracting Activity: ARMY CONTRACTING COMMAND—ABERDEEN PROVING GROUND, NATICK CONTRACTING DIVISION, NATICK, MA

COVERAGE: C-List for 100% of the requirement of the Department of the Army, as aggregated by the Army Contracting Command—Aberdeen Proving Ground, Natick Contracting Division, Natick MA.

Service

Service Type/Location: Furniture Design and Configuration Service, Maine National Guard, 194 Winthrop Street, Augusta, ME

NPA: Industries for the Blind, Inc., West Allis, WI

Contracting Activity: DEPT OF THE ARMY, W7NC USPFO ACTIVITY ME ARNG, AUGUSTA, ME

Deletion

The following service is proposed for deletion from the Procurement List:

Service

Service Type/Location: Custodial Service, Huntsville Warehouse 351, 351 Electronics Blvd., Huntsville, AL

NPA: Huntsville Rehabilitation Foundation, Huntsville, AL

Contracting Activity: DEPARTMENT OF DEFENSE, MISSILE DEFENSE AGENCY (MDA), REDSTONE ARSENAL, AL

Barry S. Lineback,
Director, Business Operations.

[FR Doc. 2014-08152 Filed 4-10-14; 8:45 am]

BILLING CODE 6353-01-P